DEPARTMENT OF AGRICULTURE

Food and Nutrition Service

Agency Information Collection Activities: Proposed Collection; Comment Request—Community Eligibility Provision Characteristics Study (CEP)

AGENCY: Food and Nutrition Service, United States Department of Agriculture (USDA).

ACTION: Notice and request for comments.

SUMMARY: In accordance with the Paperwork Reduction Act of 1995, this notice invites the general public and other public agencies to comment on this proposed information collection. This is a new collection for the Community Eligibility Provision Characteristics Study (CEP).

DATES: Written comments must be received on or before March 28, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to John Endahl, Senior Program Analyst, Office of Policy Support, Food and Nutrition Service, USDA, 3101 Park Center Drive, Room 1004, Alexandria, VA 22302. Comments may also be submitted via fax to the attention of John Endahl at 703-305-2576 or via email to john.endahl@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project, or to obtain a copy of the data collection plans contact John Endahl, Senior Program Analyst, Office of Policy Support, Food and Nutrition Service, USDA, 3101 Park Center Drive, Room 1004, Alexandria, VA 22302; Fax: 703-305-2576; Email: john.endahl@fns.usda.gov.

SUPPLEMENTARY INFORMATION:

Title: Community Eligibility Provision Characteristics Study (CEP).

Form Number: N/A.

OMB Number: Not yet assigned.

Expiration Date: Not yet determined.

Type of Request: New collection.

Abstract: The Food and Nutrition Service (FNS) intends to request approval from the Office of Management and Budget (OMB) for a clearance that will allow FNS to conduct the Community Eligibility Provision (CEP) Characteristics Study. The objective of the study is to examine operational issues and perceived incentives and barriers for adopting CEP as well as the impacts on NSLP and SBP participation and per meal revenues.

Section 104(a) of the Healthy Hunger-Free Kids Act of 2010 (Pub. L. 111-296) amended section 11(a)(1) of the Richard B. Russell National School Lunch Act (42 U.S.C. 1759a(a)(1) (the law) to provide an alternative to household applications for free and reduced-price meals in high poverty local education agencies (LEAs) and schools. This alternative is referred to as the Community Eligibility Provision (CEP).

To be eligible, LEAs and/or schools must meet a minimum level (40%) of identified students for free meals in the year prior to implementing the provision; agree to serve free lunches and breakfasts to all students; not collect free and reduced-price applications from households in participating schools, and agree to cover with non-Federal funds any costs of providing free meals to all students above amounts provided in Federal reimbursement.

Reimbursement is based on claiming percentages derived from the identified student percentage (ISP). The Identified Students are students certified for free meals through means other than individual household applications. The claiming percentages established for a school in the first year may be used for a period of up to four school years and may be increased if direct certification percentages rise in that school.

In accordance with the law, CEP was phased in over a period of several years. The provision was available to eligible LEAs and schools in three States (Illinois, Kentucky, and Michigan) selected by Food and Nutrition Service (FNS) for the school year (SY) 2011-12. An additional four States (the District of Columbia, New York, Ohio, and West Virginia) were added for SY 2012-13. FNS selected four more States (Florida, Georgia, Maryland, and Massachusetts) for SY 2013-14. CEP became available nationwide to all eligible LEAs and schools beginning July 1, 2014. As a result, in SY 2014-2015, approximately 14,000 schools in more than 2,000 LEAs serving more than 6.4 million children elected to participate in CEP.

A report was submitted to Congress that presented the results of an evaluation that examined the number of schools and LEAs that were eligible to receive special assistance payments under CEP, and described various attributes of those eligible schools and LEAs that elected or did not elect this provision. The evaluation also examined the impact of electing to receive special assistance payments under CEP on program participation, revenues, availability and type of school breakfast, LEA administrative costs, program integrity, and meal quality. The final report can be found on the FNS Web site (http://www.fns.usda.gov/community-eligibility-provision-evaluation). The Addendum describes the characteristics of LEAs and schools that participated in CEP in School Year 2013-14. It also describes how these characteristics differ for those high-poverty LEAs and schools that did not take up CEP.

With the expansion of CEP nationwide, the CEP Characteristics Study will include surveys of nationally representative samples of participating and eligible non-participating LEAs to obtain updated information on the characteristics of participating and non-participating districts and schools. The study will update information obtained in the Implementation Study component of the Community Eligibility Provision Evaluation. It will also examine CEP impacts on student participation and per meal revenue.

Affected Public: Respondent categories of affected public and the corresponding study participants will include: State Agency Child Nutrition Directors, CEP eligible SFAs with schools participating in the CEP and CEP eligible SFAs with no schools that elect to participate in the CEP.

Number of Respondents: 1,040 annually.

Frequency of Responses: Once per year.

Average Burden Hours per Response: 1.52 hours.

Total Annual Burden Hours: 1,308 hours. See the table below for estimated total annual burden for each type of respondent.

Data collection activity | Number of respondents (annual) | Frequency of responses (annual) | Average burden (hours per response) | Annual burden hours | Number of non- respondents (annual) | Frequency of responses (annual) | Average burden (hours per non- response) | Annual burden hours (non- response) | Total annual burden
CN Director Survey | 52 | 1 | 0.75 | 39 | 0 | 1 | 0.083 | 0 | 39
SFA Director Survey (participating SFAs) | 386 | 1 | 1.5 | 579 | 96 | 1 | 0.083 | 8 | 587
SFA Director Survey (non-participating) | 386 | 1 | 1.0 | 386 | 96 | 1 | 0.083 | 8 | 394
CEP Impact Study Information—Phase 1 | 12 | 1 | 16 | 192 | 0 | 1 | 0.083 | 0 | 192
CEP Impact Study information—Phase 2 | 12 | 1 | 8 | 96 | 0 | 1 | 0.083 | 0 | 96
| 848 | 1 | 1.52 | 1,292 | 192 | 1 | 0.083 | 16 | 1,308

Dated: January 19, 2016.
Audrey Rowe,
Administrator, Food and Nutrition Service.

[FR Doc. 2016-01518 Filed 1-26-16; 8:45 am]

BILLING CODE 3410-30-P